DEPARTMENT OF TRANSPORTATION

Office of the Secretary

Notice of Applications for Certificates of Public Convenience and Necessity and Foreign Air Carrier Permits Filed Under Subpart B (Formerly Subpart Q) During the Week Ending June 19, 2010

The following Applications for Certificates of Public Convenience and Necessity and Foreign Air Carrier.

Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2010-0153.

Date Filed: June 14, 2010.

Due Date for Answers, Conforming Applications, or Motion to Modify Scope:July 6, 2010.

Description:Application of Aviation Services, Ltd. (d/b/a Freedom Air (Guam)) (“Freedom Air”) requesting a certificate of public convenience and necessity authorizing Freedom Air to engage in foreign charter air transportation of persons property and mail.

Docket Number: DOT-OST-2010-0156.

Date Filed: June 16, 2010.

Due Date for Answers, Conforming Applications, or Motion to Modify Scope:July 7, 2010.

Description:Application of Island Airlines, LLC requesting authority to conduct operations as a commuter air carrier.

Docket Number: DOT-OST-2010-0157.

Date Filed: June 17, 2010.

Due Date for Answers, Conforming Applications, or Motion to Modify Scope:July 8, 2010.

Description:Application of Southern Air Inc. requesting a certificate of public convenience and necessity and an exemption to engage in scheduled foreign air transportation of property and mail between a point or points in the United States, on one hand, and a point or points in the People's Republic of China, on the other hand, via intermediate points, and beyond China.

Docket Number: DOT-OST-2001-10385.

Date Filed: June 18, 2010.

Due Date for Answers, Conforming Applications, or Motion to Modify Scope:July 9, 2010.

Description:Application of Air Europa Lineas Aereas, S.A.U. requesting renewal of its exemption authority and a foreign air carrier permit to engage in: (i) Foreign scheduled and charter air transportation of persons, property and mail from any point or points behind any Member State of the European Union via any point or points in any Member State and via intermediate points to any point or points in the United States and beyond; (ii) foreign scheduled and charter air transportation of persons, property and mail between any point or points in the United States and any point or points in any member of the European Common Aviation Area; (iii) foreign scheduled and charter cargo air transportation between any point or points in the United States and any other point or points; (iv) other charters pursuant to prior approval requirements; and (v) transportation authorized by any additional route rights made available to European Community carrier in the future.

Renee V. Wright,
Program Manager, Docket Operations, Federal Register Liaison.

[FR Doc. 2010-16620 Filed 7-7-10; 8:45 am]

BILLING CODE 4910-9X-P